DEPARTMENT OF HEALTH AND HUMAN SERVICES

National Institutes of Health

National Institute of Mental Health; Notice of Meeting

Pursuant to section 10(a) of the Federal Advisory Committee Act, as amended (5 U.S.C. App.), notice is hereby given of an Interagency Autism Coordinating Committee (IACC or Committee) meeting.

The purpose of the IACC meeting is to discuss committee business, updates and issues related to autism spectrum disorder (ASD) research and services activities. The meeting will be open to the public and will be accessible by webcast and conference call.

Name of Committee: Interagency Autism Coordinating Committee (IACC).

Type of meeting: Open Meeting.

Date: October 9, 2013.

Time: 9:00 a.m. to 5:00 p.m.* Eastern Time * Approximate end time.

Agenda: To discuss committee business, updates and issues related to ASD research and services activities.

Place: Fishers Lane Conference Center, 5635 Fisher Lane, Terrace Level, Rockville, MD 20852, (Parking on site.)

Web cast Live: http://videocast.nih.gov/.

Conference Call: Dial: 888-989-4620.

Access: Access code: 2327818.

Cost: The meeting is free and open to the public.

Registration: Pre-registration is recommended to expedite check-in. Seating in the meeting room is limited to room capacity and on a first come, first served basis. To register, please visit www.iacc.hhs.gov.

Deadlines: Notification of intent to present oral comments: Friday, September 27, 2013 by 5:00 p.m. e.t.

Submission of written/electronic statement for oral comments: Wednesday, October 2, 2013 by 5:00 p.m. e.t.

Final Deadline for Submission of written comments: Wednesday, October 2, 2013 by 5:00 p.m. e.t.

Please note: The NIMH Office of Autism Research Coordination (OARC) anticipates that written public comments received by the deadline of 5:00 p.m. e.t., Wednesday, October 2, 2013 will be presented to the Committee prior to the October 9th meeting for the Committee's consideration. Any written comments received after the October 2, 2013 deadline (between October 3, 2013 and October 8, 2013) will be provided to the Committee either before or after the meeting, depending on the volume of comments received and the staff time required to process them in accordance with privacy regulations and other applicable Federal policies.

Access: Twinbrook Metro (Red Line).

Contact Person: Ms. Lina Perez, Office of Autism Research Coordination, National Institute of Mental Health, NIH, 6001 Executive Boulevard, Room 6182A, Bethesda, MD 20892-9669, Phone: 301-443-6040, Email: IACCPublicInquiries@mail.nih.gov.

Public Comments

Any member of the public interested in presenting oral comments to the Committee must notify the Contact Person listed on this notice by 5:00 p.m. ET on Friday, September 27, 2013, with their request to present oral comments at the meeting. Interested individuals and representatives of organizations must submit a written/electronic copy of the oral presentation/statement including a brief description of the organization represented by 5:00 p.m. E.T. on Wednesday, October 2, 2013. Statements submitted will become a part of the public record. Only one representative of an organization will be allowed to present oral comments and presentations will be limited to three to five minutes per speaker, depending on the number of speakers to be accommodated within the allotted time. Speakers will be assigned a time to speak in the order of the date and time when their request to speak is received, along with the required submission of the written/electronic statement by the specified deadline.

In addition, any interested person may submit written comments to the IACC prior to the meeting by sending the comments to the Contact Person listed on this notice by 5:00 p.m. ET on Wednesday, October 2, 2013. The comments should include the name, address, telephone number and when applicable, the business or professional affiliation of the interested person. NIMH anticipates written public comments received by 5:00 p.m. E.T., Wednesday, October 2, 2013 will be presented to the Committee prior to the meeting for the Committee's consideration. Any written comments received after the October 2, 2013 deadline (between October 3, 2013 and October 8, 2013) will be provided to the Committee either before or after the meeting, depending on the volume of comments received and the staff time required to process them in accordance with privacy regulations and other applicable Federal policies. All written public comments and oral public comment statements received by the deadlines for both oral and written public comments will be provided to the IACC for their consideration and will become part of the public record.

Core Values

In the 2009 IACC Strategic Plan, the IACC listed the “Spirit of Collaboration” as one of its core values, stating that, “We will treat others with respect, listen to diverse views with open minds, discuss submitted public comments, and foster discussions where participants can comfortably offer opposing opinions.” In keeping with this core value, the IACC and the NIMH Office of Autism Research Coordination (OARC) ask that members of the public who provide public comments or participate in meetings of the IACC also seek to treat others with respect and consideration in their communications and actions, even when discussing issues of genuine concern or disagreement.

Remote Access

The meeting will be open to the public through a conference call phone number and webcast live on the Internet. Members of the public who participate using the conference call phone number will be able to listen to the meeting but will not be heard. If you experience any technical problems with the web cast or conference call, please send an email to helpdeskiacc@gmail.com or by phone at 415-652-8023.

Special Accommodations

Individuals who participate in person or by using these electronic services and who need special assistance, such as captioning of the conference call or other reasonable accommodations, should submit a request to the Contact Person listed on this notice at least 5 days prior to the meeting.

Security

As a part of security procedures, attendees should be prepared to present a photo ID at the meeting registration desk during the check-in process. Pre-registration is recommended. Seating will be limited to the room capacity and seats will be on a first come, first served basis, with expedited check-in for those who are pre-registered.

Meeting schedule subject to change.

Information about the IACC is available on the Web site: http://www.iacc.hhs.gov.

Dated: September 12, 2013.
Carolyn Baum,
Program Analyst, Office of Federal Advisory Committee Policy.

[FR Doc. 2013-22867 Filed 9-19-13; 8:45 am]

BILLING CODE 4140-01-P